DEPARTMENT OF HOMELAND SECURITY

The Department of Homeland Security, Office of Cybersecurity and Communications, US-CERT.gov Collection

AGENCY: National Protection and Programs Directorate, DHS.

ACTION: 30-Day notice and request for comments.

SUMMARY: The Department of Homeland Security (DHS), National Protection and Programs Directorate (NPPD), Office of Cybersecurity and Communications (CS&C), National Cybersecurity and Communications Integration Center (NCCIC), United States Computer Emergency Readiness Team (US-CERT) will submit the following Information Collection Request to the Office of Management and Budget (OMB) for review and clearance in accordance with the Paperwork Reduction Act of 1995. DHS previously published this information collection request (ICR) in the Federal Register on Tuesday, July 18, 2017 at 82 FR 32858 for a 60-day public comment period. Zero (0) comment was received by DHS. The purpose of this notice is to allow an additional 30 days for public comments.

DATES: Comments are encouraged and will be accepted until December 4, 2017. This process is conducted in accordance with 5 CFR 1320.1.

ADDRESSES: Interested persons are invited to submit written comments on the proposed information collection to the Office of Information and Regulatory Affairs, Office of Management and Budget. Comments should be addressed to OMB Desk Officer, Department of Homeland Security and sent via electronic mail to dhsdeskofficer@omb.eop.gov. All submissions must include the words “Department of Homeland Security” and the OMB Control Number 1670—NEW (US-CERT.gov).

Comments submitted in response to this notice may be made available to the public through relevant Web sites. For this reason, please do not include in your comments information of a confidential nature, such as sensitive personal information or proprietary information. If you send an email comment, your email address will be automatically captured and included as part of the comment that is placed in the public docket and made available on the Internet. Please note that responses to this public comment request containing any routine notice about the confidentiality of the communication will be treated as public comments that may be made available to the public notwithstanding the inclusion of the routine notice.

FOR FURTHER INFORMATION CONTACT: For specific questions related to collection activities, please contact Bonnie Limmer at 1-888-282-0870 or at info@us-cert.gov.

SUPPLEMENTARY INFORMATION: US-CERT is responsible for performing, coordinating, and supporting response to information security incidents, which may originate outside the Federal community and affect users within it, or originate within the Federal community and affect users outside of it. Often, therefore, the effective handling of security incidents relies on information sharing among individual users, industry, state and local governments, and the Federal Government, which may be facilitated by and through US-CERT.

US-CERT fulfills the role of the Federal information security incident center for the United States Federal Government as defined in the Federal Information Security Modernization Act of 2014. Each Federal agency is required to notify and consult with US-CERT regarding information security incidents involving the information and information systems (managed by a Federal agency, contractor, or other source) that support the operations and assets of the agency. Additional entities report incident information to US-CERT voluntarily.

Per the Federal Information Security Modernization Act of 2014, as codified in subchapter II of chapter 35 of title 44 of the United States Code, US-CERT must inform operators of agency information systems about current and potential information security threats and vulnerabilities. Per the Homeland Security Act, as amended, the NCCIC, of which US-CERT and ICS-CERT are a part, is required to be the Federal civilian interface for sharing cybersecurity risks, incidents, analysis, and warnings for federal and non-Federal entities.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title: Clearance for the Collection of Routine Feedback through US-CERT.gov.

OMB Number: 1670—NEW.

Frequency: Ongoing.

Affected Public: Voluntary respondents.

Number of Respondents: 126,325 respondents (estimate).

Estimated Time per Respondent: 3 minutes.

Total Burden Hours: 6,140 annual burden hours.

Total Burden Cost (capital/startup): $0.

Total Recordkeeping Burden: $0.

Total Burden Cost (operating/maintaining): $0.

David Epperson,
Chief Information Officer.

[FR Doc. 2017-24006 Filed 11-2-17; 8:45 am]

BILLING CODE 9110-9P-P